ENVIRONMENTAL PROTECTION AGENCY

40 CFR Part 52

[NC-85-200241(b); FRL-7395-6]

Approval and Promulgation of Implementation Plans State of North Carolina: Approval of Miscellaneous Revisions to the Mecklenburg County Air Pollution Control Ordinance

AGENCY: Environmental Protection Agency (EPA).

ACTION: Proposed rule.

SUMMARY: On September 24, 1997, The North Carolina Department of Environment and Natural resources submitted revisions to the Mecklenburg County Air Pollution Control Ordinance (MCAPCO). These revisions include the addition of new requirements for permits under MCAPCO Section 1.5200 Air Quality Permits, and the adoption of new rules under MCAPCO Section 1.5600 Transportation Facility Procedures. In the Final Rules section of this Federal Register, the EPA is approving the State's SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. The EPA will not institute a second comment period on this document. Any parties interested in commenting on this document should do so at this time.

DATES: Written comments must be received on or before July 30, 2003.

ADDRESSES: All comments should be addressed to: Randy Terry at the EPA, Region 4 Air Planning Branch, 61 Forsyth Street, SW., Atlanta, Georgia 30303-8960.

Copies of the State submittal(s) are available at the following addresses for inspection during normal business hours:

Environmental Protection Agency, Region 4, Air Planning Branch, 61 Forsyth Street, SW., Atlanta, Georgia 30303-8960. Randy Terry, (404) 562-9032.

Mecklenburg County Department of Environmental Protection, 700 North Tryon Street, Charlotte, North Carolina 28202-2236.

North Carolina Department of Environment and Natural Resources, 512 North Salisbury Street, Raleigh, North Carolina 27604.

FOR FURTHER INFORMATION CONTACT: Randy B. Terry at (404) 562-9032, or by electronic mail at terry.randy@epa.gov.

SUPPLEMENTARY INFORMATION: For additional information see the direct final rule which is published in the Rules section of this Federal Register.

Dated: September 20, 2002.
A. Stanley Meiburg,
Acting Regional Administrator, Region 4.

[FR Doc. 03-173 Filed 6-27-03; 8:45 am]

BILLING CODE 6560-50-P